DEPARTMENT OF HEALTH AND HUMAN SERVICES

Centers for Medicare & Medicaid Services

42 CFR Parts 405, 412, 413, 415, 419, 422, and 485

[CMS-1500-F2]

RIN-0938-AN57

Medicare Program; Changes to the Hospital Inpatient Prospective Payment Systems and Fiscal Year 2006 Rates; Correcting Amendment

AGENCY: Centers for Medicare & Medicaid Services (CMS), HHS.

ACTION: Final rule; correcting amendment.

SUMMARY: This document corrects technical errors in the final rule that appeared in the August 12, 2005 Federal Register entitled “Changes to the Hospital Inpatient Prospective Payment Systems and Fiscal Year 2006 Rates.”

EFFECTIVE DATE: This correcting amendment is effective August 12, 2005.

FOR FURTHER INFORMATION CONTACT: Marc Hartstein, (410) 786-4548.

SUPPLEMENTARY INFORMATION:

I. Background and Summary of Errors

In FR Doc. 05-15406 (70 FR 47278), the final rule entitled “Changes to the Hospital Inpatient Prospective Payment Systems and Fiscal Year 2006 Rates” (hereinafter referred to as the FY 2006 final rule), there were technical errors that are identified and corrected in the regulations text of this correcting amendment. The provisions of this correcting amendment are effective August 12, 2005.

On page 47487 of the FY 2006 final rule, we made technical errors in the regulation text of § 412.230(d)(2)(iii). In this paragraph, we inadvertently omitted qualifying language related to our reclassification policy. Accordingly, we are revising § 412.230(d)(2)(iii) to accurately reflect our policy on reclassification of a campus of a multicampus hospital. Therefore, on page 47487 first column, lines 23 through 25, the phrase “may seek reclassification to a CBSA in which another campus(es) is located” would be corrected to read “may seek reclassification only to a CBSA in which another campus(es) is located” and on lines 29 and 30, the phrase “may submit” would be corrected to read “must submit.”

II. Waiver of Proposed Rulemaking and Delay in Effective Date

We ordinarily publish a notice of proposed rulemaking in the Federal Register to provide a period for public comment before the provisions of a rule take effect in accordance with section 553(b) of the Administrative Procedure Act (APA) (5 U.S.C. 553(b)). However, we can waive the notice and comment procedures if the Secretary finds, for good cause, that the notice and comment process is impracticable, unnecessary or contrary to the public interest, and incorporates a statement of the finding and the reasons therefore in the rule. We can also waive the 30-day delay in effective date under the APA (5 U.S.C. 553(d)) when there is good cause to do so and we publish in the rule an explanation of our good cause.

Our policy on reclassification of a campus of a multicampus hospital in the FY 2006 final rule has previously been subjected to notice and comment procedures. These corrections are consistent with the discussion of this policy in the FY2006 final rule and do not make substantive changes to this policy. This correcting amendment merely corrects technical errors in the regulations text of the FY 2006 final rule. As a result, this correcting amendment is intended to ensure that the FY 2006 final rule accurately reflects the policy adopted in the final rule. Therefore, we find that undertaking further notice and comment procedures to incorporate these corrections into the final rule is unnecessary and contrary to the public interest.

For the same reasons, we are also waiving the 30-day delay in effective date for this correcting amendment. We believe that it is in the public interest to ensure that the FY 2006 final rule accurately states our policy on reclassification of a campus of a multicampus hospital. Thus delaying the effective date of these corrections would be contrary to the public interest. Therefore, we also find good cause to waive the 30-day delay in effective date.

III. Correction of Regulation Text Errors

Given the errors summarized in section I of this correcting amendment, we are making the following correcting amendments to 42 CFR Part 412:

PART 412—PROSPECTIVE PAYMENT SYSTEMS FOR INPATIENT HOSPITAL SERVICES

Section 412.230 is amended by revising paragraph (d)(2)(iii) to read as follows:

§ 412.230 Criteria for an individual hospital seeking redesignation to another rural area or an urban area.

* * * * *

(d)

(2) * * *

(iii) For applications submitted for reclassifications effective in FYs 2006 through 2008, a campus of a multicampus hospital may seek reclassification only to a CBSA in which another campus(es) is located. If the campus is seeking reclassification to a CBSA in which another campus(es) is located, as part of its reclassification request, the requesting entity must submit the composite wage data for the entire multicampus hospital as its hospital-specific data.

* * * * *

(Catalog of Federal Domestic Assistance Program No. 93.773, Medicare—Hospital Insurance; and Program No. 93.774, Medicare—Supplementary Medical Insurance Program)
Dated: September 29, 2005.
Ann C. Agnew,
Executive Secretary to the Department.

[FR Doc. 05-19924 Filed 9-30-05; 11:06 am]

BILLING CODE 4120-01-P